THE NATIONAL FOUNDATION FOR THE ARTS AND THE HUMANITIES

Notice of Proposed Information Collection: Assessing the Impact of Access to Computers and the Internet and to Related Services at Public Libraries on Individuals, Families, and Communities

AGENCY: Institute of Museum and Library Services, National Foundation for the Arts and Humanities.

ACTION: Notice.

SUMMARY: The Institute of Museum and Library Service (IMLS) as part of its continuing effort to reduce paperwork and respondent burden, conducts a pre-clearance consultation program to provide the general public and federal agencies with an opportunity to comment on proposed and/or continuing collections of information in accordance with the Paperwork Reduction Act of 1995 (PRA95) [44 U.S.C. 3508(2)(A)]. This program helps to ensure that requested data can be provided in the desired format, reporting burden (time and financial resources) is minimized, collection instruments are clearly understood, and the impact of collection requirements on respondents can be properly assessed. Currently the Institute of Museum and Library Services is soliciting comments concerning the proposed study to assess the impact of access to computers and the Internet and to related services at public libraries on individuals, families, and communities.

DATES: Written comments must be submitted to the office listed in the ADDRESSES section below on or before February 4, 2008. IMLS is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated electronic, mechanical, or other technological collection techniques or other forms of information technology, e.g. permitting electronic submissions of responses.

ADDRESSES: Send comments to: Mary Downs, Ph.D., Research Officer, Office of Policy, Planning, Research, and Communications, Institute of Museum and Library Services, 1800 M Street, NW., 9th floor, Washington, DC 20036, by telephone: 202-653-4682; fax: 202-653-4625; or by e-mail at mdowns@imls.gov.

SUPPLEMENTARY INFORMATION:

1. Background

The Institute of Museum and Library Services is authorized by the Museum and Library Services Act, Public Law 108-81, and is the primary source of federal support for the nation's 122,000 libraries and 17,500 museums. The Institute's mission is to create strong libraries and museums that connect people to information and ideas. The Institute works at the national level and in coordination with state and local organizations to sustain heritage, culture, and knowledge; enhance learning and innovation; and support professional development.

II. Current Actions

The purpose of the study is to undertake original research and analysis to identify measurable indicators of the social, economic, personal, and professional value of free access to computers, the Internet, and related services at public libraries, and of negative impact where service is weak or absent, and to provide new, reliable data on the benefits to individuals, families, and communities of these services and resources at public libraries. The study will be framed by these questions:

(1) What are the demographics of people who use computers, the Internet, and related services in public libraries?

(2) What information and resources provided by free access to computers, the Internet, and related services in public libraries are people using, across the spectrum of on-site and off-site use?

(3) How do individuals, families, and communities benefit (with a focus on social, economic, personal, and professional well-being) from free access to computers, the Internet, and related services at public libraries?

(4) What reliable indicators can measure the social, economic, personal, and/or professional well-being of individuals, families, and communities that result from access to computers, the Internet, and related services at public libraries?

(5) What correlations can be made between the benefits obtained through access to computers and the Internet and a range of demographic variables? What correlations can be made to type, level, or volume of related services?

(6) What computer and Internet services and resources are lacking at public libraries that, if provided, could bring about greater benefit?

(7) What indicators of negative impact can be identified where free access to computers and the Internet is weak or absent?

Once completed, the results of the study will be issued as a report that will be made widely available to inform and benefit libraries, the library research field, and the public at large.

Agency: Institute of Museum and Library Services.

Title: Assessing the Impact of Access to Computers and the Internet and to Related Services at Public Libraries on Individuals, Families, and Communities.

OMB Number: To be determined.

Agency Number: 3137.

Frequency: One time.

Affected Public: General public, libraries, State Library Administrative agencies, State and local governments.

Number of Respondents: To be determined.

Estimated Time per Respondent: To be determined.

Total Annualized Capital/Startup Costs: To be determined.

Total Costs: To be determined.

FOR FURTHER INFORMATION CONTACT: Mary Downs, Ph.D., Research Officer, Office of Policy, Planning, Research, and Communications, Institute of Museum and Library Services, 1800 M Street, NW., 9th Floor, Washington, DC, by telephone: 202-653-4630; fax: 202-653-4600; or e-mail: mdowns@imls.gov.

Dated: November 26, 2007.
Barbara G. Smith,
E-Projects Officer, Institute of Museum & Library Services.

[FR Doc. E7-23424 Filed 12-3-07; 8:45 am]

BILLING CODE 7036-01-P